DEPARTMENT OF LABOR

Pension and Welfare Benefits Administration

Working Group on Education and Training and Plan Fiduciaries Advisory Council on Employee Welfare and Pension Benefits Plans; Notice of Meeting

Pursuant to the authority contained in section 512 of the Employee Retirement Income Security Act of 1974 (ERISA), 29 U.S.C. 1142, the Working Group assigned by the Advisory Council on Employee Welfare and Pension Benefit Plans to study the issue of educating and training plan fiduciaries will hold an open public meeting on Wednesday, July 17, 2002, in Room N-5437 A-C, U.S. Department of Labor Building, 200 Constitution Avenue NW., Washington, DC 20210. The purpose of the Working Group is to study means by which the Labor Department could effectively promote and improve the education and training of employee benefit plan fiduciaries with regard to their fiduciary duties under ERISA.

The purpose of the open meeting, which will run from 9 a.m. to approximately 4:30 p.m. with a one-hour lunch break at noon, is for Working Group members to hold an organizational meeting, at which the group's goals for study will be outlined and the group will hear testimony from invited witnesses. Norman Stein, law professor at the University of Alabama at Tuscaloosa, is the new working group chair, and Robert Patrician, a senior research economist for the Communications Workers of America, Washington, DC, is the vice chair.

Members of the public are encouraged to file a written statement pertaining to the topic by sending 20 copies on or before July 9, 2002, to Sharon Morrissey, Executive Secretary, ERISA Advisory Council, U.S. Department of Labor, Room N-5677, 200 Constitution Avenue, NW., Washington, DC 20210. Individuals or representatives of organizations wishing to address the Working Group should forward their request to the Executive Secretary or telephone (202) 693-8668. Oral presentations will be limited to 20 minutes, but an extended statement may be submitted for the record. Individuals with disabilities, who need special accommodations, should contact Sharon Morrissey by July 9, at the address indicated in this notice.

Organizations or individuals may also submit statements for the record without testifying. Twenty (20) copies of such statements should be sent to the Executive Secretary of the Advisory Council at the above address. Papers will be accepted and included in the record of the meeting if received on or before July 9.

Signed at Washington, DC, this 25th day of June 2002.
Ann L. Combs,
Assistant Secretary, Pension and Welfare Benefits Administration.

[FR Doc. 02-16592 Filed 7-1-02; 8:45 am]

BILLING CODE 4510-29-M